DEPARTMENT OF LABOR

Employment & Training Administration

Proposed Information Collection Request Submitted for Public Comment and Recommendations: Work Application/Job Orders Recordkeeping

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources is minimized, collection instruments are clearly understood, and the impact of collection requirements on respondents can be properly assessed.

DATES: Submit comments on or before January 20, 2004.

ADDRESSES: Grace A. Kilbane, Administrator, Office of Workforce Investment, 200 Constitution Avenue, NW., Room S-4231, Washington, DC 20210, (202) 693-3980 (not a toll-free number), E-mail Address: Kilbane.Grace@dol.gov, Fax number: (202) 693-3981.

FOR FURTHER INFORMATION CONTACT: Anthony D. Dais, Office of Adult Services, 200 Constitution Avenue, NW., Room C-4512, Washington, DC 20210, (202) 693-2784 (not a toll-free number), E-mail Address: Dais.Anthony@dol.gov, Fax number: (202) 693-3015.

SUPPLEMENTARY INFORMATION:

I. Background

States collect information pertaining to core employment and information services using a system of their choice. The exact information collected is determined by the state. This information is essential to the operation of the labor exchange function within states' One-Stop systems, and it is normally collected as part of the job matching referral and placement process. At a minimum, states collect information in order to comply with the regulations at 20 CFR part 652, and the Wagner-Peyser Act, as amended. The requirement to retain information under 20 CFR 652.8(d)(5) is as follows:

“Each state shall retain basic documents for the minimum period specified below:

work application: one year

job orders: one year.”

II. Desired Focus of Comments

Currently, the Employment & Training Administration is soliciting comments concerning the proposed extension of Work Application/Job Orders Recordkeeping in order to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addressee section of this notice.

III. Current Actions

Type of Review: Extensions.

Agency: Employment & Training Administration.

Title: Work Application/Job Orders Record Keeping.

OMB Number: 1205-0001.

Recordkeeping: One Year.

Affected Public: State Governments.

Cite/Reference/Form/etc: 20 CFR 652.8(d)(5).

Total Respondents: 52.

Frequency: Quarterly.

Total Responses: 416.

Average Time per Response: One hour.

Estimated Total Burden Hours: 416 hours.

Form/activity | Total respondents | Frequency | Total responses | Average time per response (hour) | Burden
Work Application | 52 | Quarterly | 208 | 1 | 208
Job Order | 52 | Quarterly | 208 | 1 | 208
Totals | 104 | Quarterly | 416 |  | 416
(52 States include Puerto Rico and the District of Columbia)

Total Burden Cost (capital/startup): $0.

Total Burden Cost (operating/maintaining): $0.

Comments submitted in response to this notice will be summarized and/or included in the request for Office of Management and Budget approval of the information collection request; they will also become a matter of public record.

Dated: November 13, 2003.
Emily Stover DeRocco,
Assistant Secretary for Employment & Training Administration.

[FR Doc. 03-29077 Filed 11-20-03; 8:45 am]

BILLING CODE 4510-30-M